DEPARTMENT OF TRANSPORTATION

Federal Aviation Administration

Advisory Circular 33.87-2, Comparative Endurance Test Method To Show Durability for Parts Manufacturer Approval of Turbine Engine and Auxiliary Power Unit Parts

AGENCY: Federal Aviation Administration (FAA), DOT.

ACTION: Notice of issuance of advisory circular.

SUMMARY: This notice announces the issuance of Advisory Circular (AC) 33.87-2, Comparative Endurance Test Method to Show Durability for Parts Manufacturer Approval of Turbine Engine and Auxiliary Power Unit Parts. This AC describes a comparative endurance test method to be used for certain turbine engine or auxiliary power unit parts when manufactured under Parts Manufacturer Approval (PMA). This method may be used when PMA applicants introduce changes that could affect the durability of their proposed designs. It may also be used when an applicant has insufficient comparative data to show that the durability of their proposed PMA part is at least equal to the type design. The applicant can use this method when requesting PMA under test and computation, per part 21 of Title 14 of the Code of Federal Regulations, and using the comparative test and analysis approach detailed in Federal Aviation Administration Order 8110.42, Part Manufacturer Approval Procedures.

DATES: The Engine and Propeller Directorate issued AC 33.87-2 on June 25, 2009.

FOR FURTHER INFORMATION CONTACT: The Federal Aviation Administration, Attn: Karen M. Grant, Engine and Propeller Standards Staff, ANE-111, 12 New England Executive Park, Burlington, MA 01803-5299; telephone: (781) 238-7119; fax: (781) 238-7199; e-mail: karen.m.grant@faa.gov.

We have filed in the docket all substantive comments received, and a report summarizing them. If you wish to review the docket in person, you may go to the above address between 9 a.m. and 5 p.m., Monday through Friday, except Federal holidays. If you wish to contact the above individual directly, you can use the above telephone number or e-mail address provided.

How to Obtain Copies: A paper copy of AC 33.87-2 may be obtained by writing to the U.S. Department of Transportation, Subsequent Distribution Office, DOT Warehouse, SVC 121.23, Ardmore East Business Center, 3341Q 75th Ave., Landover, MD 20785, telephone 301 322-5377, or by faxing your request to the warehouse at 301-386-5394. The AC will also be available on the Internet at http://www.faa.gov/regu1atjpjpplicies (then click on “Advisory Circulars”).

Authority: 49 U.S.C. 106(g), 40113, 44701-44702, 44704.

Issued in Burlington, Massachusetts on June 25, 2009.
Peter White,
Acting Manager, Engine and Propeller Directorate, Aircraft Certification Service.

[FR Doc. E9-17844 Filed 7-28-09; 8:45 am]

BILLING CODE 4910-13-M